DEPARTMENT OF COMMERCE

International Trade Administration

[A-570-863]

Honey From the People's Republic of China: Preliminary Results and Partial Rescission of Antidumping Duty Administrative Review; 2011-2012

AGENCY: Import Administration, International Trade Administration, Department of Commerce.

SUMMARY: As discussed below, the U.S. Department of Commerce (“the Department”) preliminarily determines that none of the companies remaining under review following the partial rescission of this administrative review have demonstrated their eligibility for a separate rate.¹ As such, they remain part of the People's Republic of China (“PRC”)-wide entity. If we adopt these preliminary results in the final results of review, the Department will instruct U.S. Customs and Border Protection (“CBP”) to assess antidumping duties on entries of subject merchandise during the period of review.

¹ See Attachment 1 to this notice.

FOR FURTHER INFORMATION CONTACT: Catherine Bertrand or Katie Marksberry, AD/CVD Operations, Office 9, Import Administration, International Trade Administration, Department of Commerce, 14th Street and Constitution Avenue NW., Washington, DC 20230; telephone: (202) 482-3207 or (202) 482-7906 respectively.

SUPPLEMENTARY INFORMATION:

Scope of the Order

The products covered by the order are natural honey, artificial honey containing more than 50 percent natural honey by weight, preparations of natural honey containing more than 50 percent natural honey by weight and flavored honey.² The product is currently classified under the following Harmonized Tariff Schedule of the United States (“HTSUS”) item numbers: 0409.00.00, 1702.90.90, 2106.90.99, 0409.00.0010, 0409.00.0035, 0409.00.0005, 0409.00.0045, 0409.00.0056, and 0409.00.0065. Although the HTSUS numbers are provided for convenience and for customs purposes, the written product description remains dispositive.

² See the “Decision Memorandum for Preliminary Results, Partial Rescission of Antidumping Duty Administrative Review: Honey from the People's Republic of China,” from Christian Marsh, Deputy Assistant Secretary for Antidumping and Countervailing Duty Operations, to Ronald K. Lorentzen, Acting Assistant Secretary for Import Administration (“Preliminary Decision Memorandum”), dated concurrently with these results, for a complete description of the Scope of the Order.

Methodology

The Department has conducted this review in accordance with section 751(a)(1)(A) of the Tariff Act of 1930, as amended (“the Act”). For a full description of the methodology underlying our conclusions, see the Preliminary Decision Memorandum, dated concurrently with these results and hereby adopted by this notice. The Preliminary Decision Memorandum is a public document and is on file electronically via Import Administration's Antidumping and Countervailing Duty Centralized Electronic Service System (“IA ACCESS”). IA ACCESS is available to registered users at http://iaaccess.trade.gov and in the Central Records Unit, room 7046 of the main Department of Commerce building. In addition, a complete version of the Preliminary Decision Memorandum is available on the Internet at http://www.trade.gov/ia/. The signed Preliminary Decision Memorandum and the electronic versions of the Preliminary Decision Memorandum are identical in content.

Partial Rescission of Review

The Department is rescinding this review with regard to Anhui Honghui Foodstuff (Group) Co., Ltd., Shanghai Taiside Trading Co., Ltd., Tianjin Eulia Honey Co., Ltd., and Wuhan Bee Healthy Co., Ltd. as parties have timely withdrawn all review requests with respect to these companies. These companies have separate rates from a prior segment of this proceeding; therefore, antidumping duties shall be assessed at rates equal to the cash deposit of estimated antidumping duties required at the time of entry, or withdrawal from warehouse, for consumption, in accordance with 19 CFR 351.212(c)(2).³

³ See Preliminary Decision Memorandum.

Preliminary Results of Review

We preliminarily determine that the following antidumping duty margin exists:

Exporter | Margin (dollars per kilogram)
PRC-wide entity (which includes the companies listed in Appendix 1) | $2.63

Briefs and Public Hearing

Interested parties are invited to comment on the preliminary results and may submit case briefs and/or written comments within 30 days of the date of publication of this notice, pursuant to 19 CFR 351.309(c)(1)(ii). Rebuttal briefs, limited to issues raised in the case briefs, will be due five days later, pursuant to 19 CFR 351.309(d). We request interested parties who file case or rebuttal briefs in this proceeding to submit with each argument (1) a statement of the issue and (2) a brief summary of the argument. Parties are requested to provide a summary of the arguments not to exceed five pages and a table of statutes, regulations, and cases cited, in accordance with 19 CFR 351.309(c)(2).

Pursuant to 19 CFR 351.310(c), interested parties who wish to request a hearing, or to participate if one is requested, must submit a written request within 30 days of the publication of this notice in the Federal Register to the Assistant Secretary for Import Administration, U.S. Department of Commerce, pursuant to the Department's e-filing regulations located at https://iaaccess.trade.gov/help/IA%20ACCESS%20User%20Guide.pdf. Requests should contain: (1) The party's name, address and telephone number; (2) the number of participants; and (3) a list of issues discussed. Issues raised in the hearing will be limited to those raised in the respective case briefs.

The Department intends to issue the final results of this administrative review, including the results of its analysis of the issues raised in any written briefs, not later than 120 days after the date of publication of this notice, pursuant to section 751(a)(3)(A) of the Act.

Assessment Rates

With regard to this partial rescission of the review, the Department will instruct CBP to assess antidumping duties on all appropriate entries. The Department intends to issue appropriate partial rescission assessment instructions directly to CBP 15 days after publication of these preliminary results. Further, upon issuance of the final results, the Department will determine, and CBP shall assess, antidumping duties on all appropriate entries covered by this review. The Department intends to issue assessment instructions to CBP 15 days after the publication date of the final results of this review.

Cash Deposit Requirements

The following cash deposit requirements will be effective upon publication of the final results of this administrative review for all shipments of the subject merchandise entered, or withdrawn from warehouse, for consumption on or after the publication date, as provided for by section 751(a)(2)(C) of the Act: (1) For previously investigated or reviewed PRC and non-PRC exporters not listed above that have separate rates, the cash deposit rate will continue to be the exporter-specific rate published for the most recently completed period; (2) for all PRC exporters of subject merchandise that have not been found to be entitled to a separate rate, the cash deposit rate will be the PRC-wide rate of $2.63 per kilogram; and, (3) for all non-PRC exporters of subject merchandise which have not received their own rate, the cash deposit rate will be the rate applicable to the PRC exporter(s) that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

These preliminary results and partial rescission are issued and published in accordance with sections 751(a)(1) and 777(i)(1) of the Act, 19 CFR 351.221(b)(4) and 19 CFR 351.213(d)(4).

Dated: June 20, 2013.
Ronald K. Lorentzen,
Acting Assistant Secretary for Import Administration.

Appendix 1

In addition to the companies determined to be not eligible for separate rate status (i.e., Dongtai Peak, Haoyikuai I&E, Qinshi Tangyi, and Haoyikuai Food),⁴ the following companies (named as in the Initiation notice) are also not eligible for separate rate status in this administrative review and are preliminarily considered part of the PRC-wide Entity:

⁴ See Preliminary Decision Memorandum.

1 Ahcof Industrial Development Corp., Ltd.

2 Alfred L. Wolff (Beijing) Co., Ltd.

3 Anhui Changhao Import & Export Trading

4 Anhui Honghui Import & Export Trade Co., Ltd.

5 Anhui Cereals Oils and Foodstuffs I/E (Group) Corporation

6 Anhui Hundred Health Foods Co., Ltd.

7 Anhui Native Produce Imp & Exp Corp.

8 Anhui Time Tech Co., Ltd.

9 APM Global Logistics (Shanghai) Co.

10 Baiste Trading Co., Ltd.

11 Cheng Du Wai Yuan Bee Products Co., Ltd.

12 Chengdu Stone Dynasty Art Stone

13 Damco China Limited Qingdao Branch

14 Eurasia Bee's Products Co., Ltd.

15 Feidong Foreign Trade Co., Ltd.

16 Fresh Honey Co., Ltd. (formerly Mgl. Yun Shen)

17 Golden Tadco Int'l

18 Hangzhou Golden Harvest Health Industry Co., Ltd.

19 Hangzhou Tienchu Miyuan Health Food Co., Ltd.

20 Haoliluck Co., Ltd.

21 Hengjide Healthy Products Co. Ltd.

22 Hubei Yusun Co., Ltd.

23 Inner Mongolia Altin Bee-Keeping

24 Inner Mongolia Youth Trade Development Co., Ltd.

25 Jiangsu Cereals, Oils Foodstuffs Import Export (Group) Corp.

26 Jiangsu Kanghong Natural Healthfoods Co., Ltd.

27 Jiangsu Light Industry Products Imp & Exp (Group) Corp.

28 Jilin Province Juhui Import

29 Maersk Logistics (China) Company Ltd.

30 Nefelon Limited Company

31 Ningbo Shengye Electric Appliance

32 Ningbo Shunkang Health Food Co., Ltd.

33 Ningxia Yuehai Trading Co., Ltd.

34 Product Source Marketing Ltd.

35 Qingdao Aolan Trade Co., Ltd.

36 QHD Sanhai Honey Co., Ltd.

37 Qinhuangdao Municipal Dafeng Industrial Co., Ltd.

38 Renaissance India Mannite

39 Shaanxi Youthsun Co., Ltd.

40 Shanghai Bloom International Trading Co., Ltd.

41 Shanghai Foreign Trade Co., Ltd.

42 Shanghai Hui Ai Mal Tose Co., Ltd.

43 Shanghai Luyuan Import & Export

44 Shine Bal Co., Ltd.

45 Sichuan-Dujiangyan Dubao Bee Industrial Co., Ltd.

46 Sichuan Hasten Imp Exp. Trading Co., Ltd.

47 Silverstream International Co., Ltd.

48 Sunnice Honey

49 Suzhou Aiyi IE Trading Co., Ltd.

50 Suzhou Shanding Honey Product Co. Ltd.

51 Tianjin Weigeda Trading Co., Ltd.

52 Wanxi Haohua Food Co., Ltd.

53 Wuhan Shino-Food Trade Co., Ltd.

54 Wuhu Anjie Food Co., Ltd.

55 Wuhu Deli Foods Co. Ltd.

56 Wuhu Fenglian Co., Ltd.

57 Wuhu Haoyikuai I & E Co.

58 Wuhu Qinshi Tangye Co., Ltd.

59 Wuhu Xinrui Bee-Product Co., Ltd.

60 Xinjiang Jinhui Food Co., Ltd.

61 Youngster International Trading Co., Ltd.

62 Zhejiang Willing Foreign Trading Co.

Appendix 2

List of Topics Discussed in the Preliminary Decision Memorandum

1. Scope of the Order

4. Separate Rates

5. Partial Rescission of Review

6. PRC-Wide Entity

[FR Doc. 2013-15613 Filed 6-27-13; 8:45 am]

BILLING CODE 3510-DS-P